DEPARTMENT OF THE INTERIOR

Bureau of Land Management

[LLUTG02000.L14300000. FR0000.241A.00; UTU-83290]

Notice of Realty Action; Recreation and Public Purposes Act Classification for Conveyance of Public Land in Emery County, UT

AGENCY: Bureau of Land Management, Interior.

ACTION: Notice of Realty Action.

SUMMARY: The Bureau of Land Management (BLM) has examined and found suitable for classification for conveyance to Emery County under the provisions of the Recreation and Public Purposes (R&PP) Act, as amended, a parcel of public land in Emery County, Utah. Emery County proposes to expand their existing landfill.

DATES: Interested parties may submit written comments regarding this classification for conveyance of public land until October 15, 2010.

ADDRESSES: Comments may be submitted to the Bureau of Land Management, Price Field Office, 125 South 600 West, Price, Utah 84501 or via e-mail: UT_PR_Comments@blm.gov. Please reference “Conveyance of Federal Land to Emery County for Expansion of an Existing Landfill” on all correspondence.

FOR FURTHER INFORMATION CONTACT: Connie Leschin, BLM Price Field Office at (435) 636-3610 or by e-mail at Connie_Leschin@blm.gov.

SUPPLEMENTARY INFORMATION: The BLM has examined and found the following described public land suitable for classification and conveyance under the provisions of the R&PP Act, as amended (43 U.S.C. 869 et seq.), and 43 CFR part 2740:

Salt Lake Meridian

T. 18 S., R. 8 E.,

Sec. 9, SE¼;.

The area described contains 160 acres in Emery County.

The land is not needed for any Federal purpose. The classification is consistent with the BLM Price Resource Management Plan, Lands and Realty Decision LAR-11, dated October 31, 2008, and is in the public interest. An environmental assessment has been prepared that analyzes the Emery County application and proposed plans of development and management. A conveyance would be subject to the provisions of the R&PP Act, applicable regulations of the Secretary of the Interior, including, but not limited to 43 CFR subpart 2743 and the following reservations to the United States:

1. A right-of-way thereon for ditches or canals constructed by the authority of the United States, Act of August 30, 1890 (43 U.S.C. 945).

2. All minerals, together with the right to prospect for, mine, and remove such deposits from the same under applicable law and such regulations as the Secretary of the Interior may prescribe including all necessary access and exit rights.

A conveyance would also be subject to the following terms and conditions:

1. All valid existing rights.

2. An indemnification clause protecting the United States from claims arising out of the patentee's use, occupancy, or operations on the land.

3. A limited reversionary provision stating that the title shall revert to the United States upon a finding, after notice and opportunity for a hearing, that the patentee has not substantially developed the lands in accordance with the approved plan of development on or before the date 5 years after the date of conveyance. No portion of the land shall under any circumstance revert to the United States if any such portion has been used for solid waste disposal or for any other purpose which may result in the disposal, placement, or release of any hazardous substance.

Upon publication of this notice in the Federal Register, the lands described above are segregated from all other forms of appropriation under the public land laws, including the general mining laws, except for conveyance under the R&PP Act.

Classification Comments: Interested parties may submit comments involving the suitability of the land for the expansion of the existing county landfill. Comments on the classification are restricted to whether the land is physically suited for the proposal, whether the use will maximize the future use (or uses) of the land, whether the use is consistent with local planning and zoning, or whether the use is consistent with state and Federal programs.

Application Comments: Interested parties may submit comments regarding the specific use proposed in the application, or any other factors not directly related to the suitability of the land for a county landfill.

Before including your address, phone number, e-mail address, or other personal identifying information in your comment, you should be aware that your entire comment—including your personal identifying information-may be made publicly available at any time. While you can ask us in your comment to withhold your personal identifying information from public review, we cannot guarantee that we will be able to do so. The BLM State Director will review any adverse comments. In the absence of any adverse comments, the classification will become effective November 1, 2010.

The lands will not be available for conveyance until after the classification becomes effective, and until a determination of significance and decision record have been signed for the completed Environmental Assessment.

Authority: 43 CFR 2741.5(h).

Approved:
Jeff Rawson,
Associate State Director.

[FR Doc. 2010-21717 Filed 8-30-10; 8:45 am]

BILLING CODE 4310-DQ-P